DEPARTMENT OF COMMERCE

National Oceanic and Atmospheric Administration

RIN 0648-XG403

North Pacific Fishery Management Council; Public Meeting

AGENCY: National Marine Fisheries Service (NMFS), National Oceanic and Atmospheric Administration (NOAA), Commerce.

ACTION: Notice of public meeting.

SUMMARY: The North Pacific Fishery Management Council (Council) Science and Statistical Committee Subgroup (SSC Subgroup) will hold a public meeting.

DATES: The meeting will be held on Monday, September 10, 2018 from 9 a.m. to 4 p.m.

ADDRESSES: The meeting will be held in Room 2079, at the Alaska Fisheries Science Center (AFSC), 7700 Sand Point Way NE, Seattle, WA 98115.

Council address: North Pacific Fishery Management Council, 605 W 4th Ave., Suite 306, Anchorage, AK 99501-2252; telephone: (907) 271-2809.

FOR FURTHER INFORMATION CONTACT: Stephani Zador, AFSC staff; telephone: (206) 526-4693.

SUPPLEMENTARY INFORMATION:

Agenda

Monday, September 10, 2018

The agenda will include: (a) AFSC review of Alaska surveys and budget considerations; (b) discussion of alternatives for survey planning based on different budget scenarios; (c) develop recommendations for the SSC and Council; (d) other business. The Agenda is subject to change, and the latest version will be posted at http://www.npfmc.org/upcoming-meetings/.

Public Comment

Public comment letters will be accepted until the start of the meeting, and should be submitted either electronically to Diana Evans, Council staff: diana.evans@noaa.gov or through the mail: North Pacific Fishery Management Council, 605 W 4th Ave., Suite 306, Anchorage, AK 99501-2252. In-person oral public testimony will be accepted at the discretion of the chair.

Special Accommodations

The meeting is physically accessible to people with disabilities. Requests for sign language interpretation or other auxiliary aids should be directed to Shannon Gleason at (907) 271-2809 at least 7 working days prior to the meeting date.

Dated: August 14, 2018.
Tracey L. Thompson,
Acting Deputy Director, Office of Sustainable Fisheries, National Marine Fisheries Service.

[FR Doc. 2018-17774 Filed 8-16-18; 8:45 am]

BILLING CODE 3510-22-P